FEDERAL COMMUNICATIONS COMMISSION

47 CFR Part 73

[DA 06-802; MB Docket No. 05-17; RM-11113, RM-11114]

Radio Broadcasting Services: Connersville, Erlanger, Lebanon, Lebanon Junction, KY; Madison, IN; New Haven, KY; Richmond, IN; and Springfield, KY

AGENCY: Federal Communications Commission.

ACTION: Final rule; dismissal of petition for reconsideration.

SUMMARY: This document dismisses a Petition for Reconsideration Jointly filed by Newberry Broadcasting, Inc., Elizabethtown CBC, Inc., CBC of Marion County, Inc., and Cumulus Licensing, LLC directed to the Report and Order in this proceeding. With this action, the proceeding is terminated.

ADDRESSES: Federal Communications Commission, 445 Twelfth Street, SW., Washington, DC 20554.

FOR FURTHER INFORMATION CONTACT: Robert Hayne, Media Bureau, (202) 418-2177.

SUPPLEMENTARY INFORMATION: This is a synopsis of the Commission's Memorandum Opinion and Order in MB Docket No. 05-17, adopted April 5, 2006, and released April 7, 2006. The full text of this decision is available for inspection and copying during normal business hours in the FCC's Reference Information Center at Portals II, CY-A257, 445 12th Street, SW., Washington, DC 20554. The complete text of this decision may also be purchased from the Commission's copy contractor, Best Copy and Printing, Inc., 445 12th Street, SW., Room CY-B402, Washington, DC 20554, telephone 1-800-378-3160 or http://www.BCPIWEB.com. This document is not subject to the Congressional Review Act. (The Commission is, therefore, not required to submit a copy of this Report and Order to GAO, pursuant to the Congressional Review Act, see 5 U.S.C. 801(a)(1)(A), because the petition for reconsideration was dismissed.)

List of Subjects in 47 CFR Part 73

Radio, Radio broadcasting.

Federal Communications Commission.
John A. Karousos,
Assistant Chief, Audio Division, Media Bureau.

[FR Doc. 06-3935 Filed 4-25-06; 8:45 am]

BILLING CODE 6712-01-P